ENVIRONMENTAL PROTECTION AGENCY

[ER-FRL-6653-3]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in the Federal Register dated April 2, 2004 (69 FR 17403).

Draft EISs

ERP No. D-COE-E39064-FL Rating LO, Programmatic EIS—Florida Keys Water Quality Improvements Program, To Implement Wastewater and Stormwater Improvements, South Florida Water Management District, Monroe County, FL.

Summary: EPA has no objection to the preferred alternative.

ERP No. D-DOE-K06007-CA Rating EC2, Site-wide Continued Operation of Lawrence Livermore National Laboratory (LLNL) and Stockpile Stewardship and Management, Implementation, Alameda and San Joaquin Counties, CA.

Summary: EPA raised environmental concerns on: (1) The facility's Spill Prevention, Control and Counter-measure capabilities; (2) mitigation to reduce radionuclide emissions and construction-related air quality impacts; (3) environmental contaminants; and (4) accident-related issues. The Final EIS/Programmatic Final SEIS for both DOE projects at the Livermore facility should clarify the relationship between each project's final preferred alternative; disclose impacts of reasonable scenarios that were not addressed; and identify how decision-making for the respective projects is expected to proceed.

ERP No. D-FAA-F51049-IN Rating EC2, Gary/Chicago International Airport Master Plan Development Including Runway Safety Area Enhancement/Extension of Runway 12-30, Funding, Lake County, IN.

Summary: EPA expressed environmental concerns related to potential adverse impacts to clean-up/remediation activities at three EPA CERCLA sites and wetlands.

ERP No. D-FHW-L40222-WA Rating LO, WA-99 Alaskan Way Viaduct and Seawall Replacement Project, To Provide Transportation Facility and Seawall with Improved Earthquake Resistence, US Army COE Section 10 and 404 Permits, Seattle WA.

Summary: EPA expressed no objections to any of the alternatives analyzed in the EIS.

ERP No. D-FTA-K54029-CA Rating EC2, Silicon Valley Rapid Transit Corridor, Construct BART Extension to Milpitas, San Jose and Santa Clara, in the Cities of Fremont, Milpitas, San Jose and Santa Clara, Alameda and Santa Clara Counties, CA.

Summary: EPA expressed concerns regarding impacts on water resources, air quality, environmental justice, and cumulative effects.

ERP No. D-NSF-A99223-00 Rating LO, Project IceCube Comprehensive Environmental Evaluation, Antarctica.

Summary: EPA has no objections to the proposed action.

ERP No. DA-AFS-L61218-ID Rating LO, Frank Church-River of No Return Wilderness (FR-RONRW), Noxious Weed Treatments, Updated Information to Supplement the 1999 Final EIS for FR-RONRW, Implementation, Bitterroot, Boise, Nez Perce, Payette and Salmon-Challis National Forests, ID.

Summary: EPA has no objections to the proposed treatment strategy.

EPA has no objections to the proposed treatment strategy.

ERP No. DA-DOE-A06178-00 Rating EC2, Programmatic EIS—Site-wide Continued Operation of Lawrence Livermore National Laboratory (LLNL) and Supplemental Stockpile Stewardship and Management Plan for use of Proposed Materials at the National Ignition Facility (NIF), Implementation, Alameda and San Joaquin Counties, CA.

Summary: EPA raised environmental concerns on: (1) The facility's Spill Prevention, Control and Counter-measure capabilities; (2) mitigation to reduce radionuclide emissions and construction-related air quality impacts; (3) environmental contaminants; and (4) accident-related issues. The Final EIS/Programmatic Final SEIS for both DOE projects at the Livermore facility should clarify the relationship between each project's final preferred alternative; disclose impacts of reasonable scenarios that were not addressed; and identify how decision-making for the respective projects is expected to proceed.

ERP No. DS-SFW-K64017-CA Rating LO, Trinity River Mainstem Fishery Restoration Program, Updated Information, To Restore and Maintain the Natural Production of Anadromous Fish, Downstream of Lewiston Dam, Hoopa Valley Tribe, Weaverville, Trinity County, CA.

Summary: EPA has no objection to the preferred alternative.

Final EISs

ERP No. F-NIH-J81012-MT, Rocky Mountain Laboratories (RML) Integrated Research Facility, Construction and Operation to Improve the Nation's Ability to Study and Combat Emerging Infectious Disease and to Protect Public Health, Hamilton, Ravalli County, MT.

Summary: EPA expressed concerns regarding the need for full disclosure of potential risks of release of infectious agents, and the operation of the facility using BSL-4 agents in a research facility near a residential area. EPA requested the FEIS include a comprehensive risk notification and communication program for the local community.

ERP No. F-NRS-L31004-ID, Little Wood River Irrigation District, Gravity Pressurized Delivery System Construction, Funding and U.S. Army COE Section 404 Permit, Townships of 1 North, 1 South and 2 South of Range 21 East of the Boise Merridan, City of Carey, Blaine County, ID.

Summary: No formal comment letter was sent to the preparing agency.

ERP No. F-USA-L10005-AK, Programmatic EIS—Army Transformation of the 172nd Infantry Brigade (Separate) to a Stryker Brigade Combat Team (SBCT), Propose Location Forts Wainwright and Richardson, AK.

Summary: EPA continues to express concerns related to soil and water resource impacts. EPA stated that the Army's monitoring and management programs for training areas must be fully implemented to repair the predicted damage.

ERP No. F-USN-K11112-CA, Tertiary Treatment Plant and Associated Facilities Construction and Operation, Implementation, Marine Corps Base Camp Pendleton, San Diego County, CA.

Summary: No formal comment letter was sent to the preparing agency.

Dated: June 29, 2004.
Ken Mittelholtz,
Environmental Protection Specialist, Office of Federal Activities.

[FR Doc. 04-15098 Filed 7-1-04; 8:45 am]

BILLING CODE 6560-50-P